ENVIRONMENTAL PROTECTION AGENCY

40 CFR Part 52

[NH-046a; A-1-FRL-7171-8]

Approval and Promulgation of Air Quality Implementation Plans; New Hampshire; Post-1996 Rate-of-Progress Plans

AGENCY: Environmental Protection Agency (EPA).

ACTION: Proposed rule.

SUMMARY: The EPA is proposing to approve a State Implementation Plan (SIP) revision submitted by the State of New Hampshire. This revision establishes post-1996 rate-of-progress (ROP) plans for the Portsmouth-Dover-Rochester serious ozone nonattainment area, and for the New Hampshire portion of the Boston-Lawrence-Worcester serious ozone nonattainment area. The intended effect of this action is to approve this SIP revision as meeting the requirements of the Clean Air Act.

DATES: Written comments must be received on or before May 16, 2002.

ADDRESSES: Comments may be mailed to David Conroy, Unit Manager, Air Quality Planning, Office of Ecosystem Protection (mail code CAQ), U.S. Environmental Protection Agency, EPA—New England, One Congress Street, Suite 1100, Boston, MA 02114-2023. Copies of the state submittal and EPA's technical support document are available for public inspection during normal business hours, by appointment at the Office of Ecosystem Protection, U.S. Environmental Protection Agency, EPA—New England, One Congress Street, 11th floor, Boston, MA and at the Air Resources Division, New Hampshire Department of Environmental Services, 6 Hazen Drive, Concord, New Hampshire, 03302-0095.

FOR FURTHER INFORMATION CONTACT: Robert McConnell, (617) 918-1046.

SUPPLEMENTARY INFORMATION: In the Final Rules section of this Federal Register, EPA is approving the state's SIP submittal as a direct final rule without prior proposal because the Agency views this as a noncontroversial submittal and anticipates no adverse comments. A detailed rationale for the approval is set forth in the direct final rule. If EPA receives no adverse comments in response to this action, the Agency contemplates no further activity. If EPA receives adverse comments, the Agency will withdraw the direct final rule and will address all public comments received in a subsequent final rule based on this proposed rule. EPA will not institute a second comment period. Any parties interested in commenting on this action should do so at this time. Please note that if EPA receives adverse comment on an amendment, paragraph, or section of this rule and if that provision may be severed from the remainder of the rule, EPA may adopt as final those provisions of the rule that are not the subject of an adverse comment.

For additional information, see the direct final rule which is located in the Rules section of this Federal Register.

Dated: April 4, 2002.
Ira W. Leighton,
Acting Regional Administrator, EPA—New England.

[FR Doc. 02-9067 Filed 4-15-02; 8:45 am]

BILLING CODE 6560-50-P